DEPARTMENT OF COMMERCE

International Trade Administration

[A-580-887]

Carbon and Alloy Steel Cut-to-Length Plate From the Republic of Korea: Final Results and Final Determination of No Shipments of Antidumping Duty Administrative Review; 2016-2018

AGENCY: Enforcement and Compliance, International Trade Administration, U.S. Department of Commerce.

SUMMARY: The Department of Commerce (Commerce) is conducting an administrative review of the antidumping duty order on Carbon and Alloy Steel Cut-to-Length Plate from the Republic of Korea. The period of review (POR) is November 14, 2016 through April 30, 2018. The review covers fourteen producer and/or exporters of the subject merchandise, including POSCO, POSCO Daewoo Corporation, and POSCO Processing & Service Co., Ltd. (which are part of the POSCO single entity), as well as eleven other companies not selected for individual examination. We determine that U.S. sales of subject merchandise by the POSCO single entity were made at prices below normal value (NV). Additionally, two companies, Hyundai Steel Corporation (Hyundai Steel) and Hyundai Glovis Co. Ltd. (Hyundai Glovis), were found to have no shipments during the POR.

DATES: Applicable December 26, 2019.

FOR FURTHER INFORMATION CONTACT: Michael Bowen or William Horn, AD/CVD Operations, Office VIII, Enforcement and Compliance, International Trade Administration, U.S. Department of Commerce, 1401 Constitution Avenue NW, Washington, DC 20230; telephone (202) 482-0768 or (202) 482-4868, respectively.

SUPPLEMENTARY INFORMATION:

Background ¹

¹ See Certain Carbon and Alloy Steel Cut-To-Length Plate From Austria, Belgium, France, the Federal Republic of Germany, Italy, Japan, the Republic of Korea, and Taiwan: Amended Final Affirmative Antidumping Determinations for France, the Federal Republic of Germany, the Republic of Korea and Taiwan, and Antidumping Duty Orders, 82 FR 24096 (May 25, 2017) (Order).

Commerce published the Preliminary Results on July 11, 2019.² For events subsequent to the Preliminary Results, see Commerce's Issues and Decision Memorandum.³

² See Carbon and Alloy Steel Cut-to-Length Plate from the Republic of Korea: Preliminary Results of Antidumping Duty Review; 2016-2018, 84 FR 34119 (July 17, 2019) (Preliminary Results), and the accompanying Preliminary Decision Memorandum (PDM).

³ See Memorandum, “Issues and Decision Memorandum for the Final Results in the 2016-2018 Antidumping Duty Administrative Review of Carbon and Alloy Steel Cut-to-Length Plate from the Republic of Korea,” dated concurrently with, and hereby adopted by, this notice (Issues and Decision Memorandum).

Scope of the Order

The merchandise subject to the Order is Carbon and Alloy Steel Cut-to-Length Plate. The product is currently classified under the Harmonized Tariff Schedule of the United States (HTSUS) subheadings 7208.40.3030, 7208.40.3060, 7208.51.0030, 7208.51.0045, 7208.51.0060, 7208.52.0000, 7211.13.0000, 7211.14.0030, 7211.14.0045, 7225.40.1110, 7225.40.1180, 7225.40.3005, 7225.40.3050, 7226.20.0000, and 7226.91.5000.

The products subject to the investigations may also enter under the following HTSUS item numbers: 7208.40.6060, 7208.53.0000, 7208.90.0000, 7210.70.3000, 7210.90.9000, 7211.19.1500, 7211.19.2000, 7211.19.4500, 7211.19.6000, 7211.19.7590, 7211.90.0000, 7212.40.1000, 7212.40.5000, 7212.50.0000, 7214.10.000, 7214.30.0010, 7214.30.0080, 7214.91.0015, 7214.91.0060, 7214.91.0090, 7225.11.0000, 7225.19.0000, 7225.40.5110, 7225.40.5130, 7225.40.5160, 7225.40.7000, 7225.99.0010, 7225.99.0090, 7206.11.1000, 7226.11.9060, 7229.19.1000, 7226.19.9000, 7226.91.0500, 7226.91.1530, 7226.91.1560, 7226.91.2530, 7226.91.2560, 7226.91.7000, 7226.91.8000, and 7226.99.0180. The HTSUS subheadings are provided for convenience and customs purposes only; the written product description of the scope of the Order is dispositive. For a complete description of the scope of the Order, see the Preliminary Results.⁴

⁴ See Preliminary Results, and the accompanying PDM at 3-7.

Analysis of Comments Received

In the Issues and Decision Memorandum, we addressed all issues raised in the interested parties' case and rebuttal briefs. In the Appendix to this notice, we provide a list of the issues raised by the parties. The Issues and Decision Memorandum is a public document and is on-file electronically via Enforcement and Compliance's Antidumping and Countervailing Duty Centralized Electronic Service System (ACCESS). ACCESS is available to registered users at https://access.trade.gov, and ACCESS is available to all parties in the Central Records Unit (CRU), Room B8024 of the main Commerce building. In addition, a complete version of the Issues and Decision Memorandum can be accessed directly on the internet at http://enforcement.trade.gov/frn/index.html. The signed Issues and Decision Memorandum and the electronic versions of the Issues and Decision Memorandum are identical in content.

Final Determination of No Shipments

In the Preliminary Results we erroneously determined a weighted-average dumping margin for Hyundai Steel and Hyundai Glovis based on the rate determined for POSCO. In these final results we find that Hyundai Steel and Hyundai Glovis made no shipments during the POR.⁵

⁵ See Issues and Decision Memorandum at Comment 11.

Final Results of the Review

As a result of this review, we determine the following weighted-average dumping margins exist for the POR:

Exporter or producer | Weighted- average dumping margin (percent)
POSCO single entity ⁶ | 19.87
Review-Specific Average Rate Applicable to the Following Companies ⁷:
Buma Ce Co., Ltd | 19.87
Dong Yang Steel Pipe Co., Ltd | 19.87
Dongkuk Steel Mill Co., Ltd | 19.87
Expeditors Korea Ltd | 19.87
Haem Co., Ltd | 19.87
J.I. Sea & Air Express Co., Ltd | 19.87
Maxpeed Co., Ltd | 19.87
Ramses Logistics Co., Ltd | 19.87
Sumitomo Corp. Korea Ltd | 19.87

Assessment Rates

Commerce has determined, and U.S. Customs and Border Protection (CBP) shall assess, antidumping duties on all appropriate entries of subject merchandise in accordance with these final results of review.⁸

⁶ Commerce has determined that POSCO, POSCO Daewoo Corporation, POSCO Processing and Service Co., Ltd., Taechang Steel Co., Ltd., Winsteel Co., Ltd, Moonbae Steel Co., Ltd., Dae Dong Steel Co., Ltd, SPFC Co., Ltd., Steel Flower Co., Ltd., TC-TECH, Shinjin Esco Co., Ltd., POSCO Plantec., Ltd., POSCO Engineering and Construction Co., Ltd., Hi Steel Co., Ltd., Miju Steel, POSCO Eng., and Shilla Steel Co., Ltd. are affiliated pursuant to section 771(33)(E) of the Act, and further that these companies should be treated as a single entity (collectively, POSCO single entity) pursuant to 19 CFR 351.401(f). See Issues and Decision Memorandum at Comment 1.

⁷ This rate is based on the rate for the sole respondent that was selected for individual review. See section 735(c)(5)(A) of the Act.

⁸ See 19 CFR 351.212(b).

Pursuant to 19 CFR 351.212(b)(1), where the POSCO single entity reported the entered value of its U.S. sales, we calculated importer-specific ad valorem antidumping duty assessment rates based on the ratio of the total amount of dumping calculated for the importer's examined sales to the total entered value of such sales. Where the POSCO single entity did not report the entered value of its U.S. sales, we calculated importer-specific assessment rates based on the ratio of the total amount of dumping calculated for the importer's examined sales and the total quantity of those sales, in accordance with 19 CFR 351.212(b)(1). Where we calculated a per-unit assessment rate, we also calculated an ad valorem importer-specific assessment rate based on estimated entered values with which to assess whether the per-unit assessment rate is de minimis. We will instruct CBP to assess antidumping duties on all appropriate entries covered by this review when the importer-specific ad valorem assessment rate calculation in the final results of this review is not zero or de minimis (i.e., less than 0.5 percent). Where either the respondent's weight-averaged dumping margin is zero or de minimis, or an importer-specific ad valorem assessment rate is zero or de minimis,⁹ we will instruct CBP to liquidate the appropriate entries without regard to antidumping duties.

⁹ See 19 CFR 351.106(c)(2).

We intend to instruct CBP to take into account the “provisional measures deposit cap,” in accordance with 19 CFR 351.212(d).

For each company that was not selected for individual examination, we will instruct CBP to assess antidumping duties at a rate equal to the weighted-average dumping margin determined for that company in the final results of this review.

For each company which we determined had “no shipments” of the subject merchandise during the POR (i.e., Hyundai Steel and Hyundai Glovis), we will instruct CBP to liquidate all POR entries associated with these companies at the all-others rate (i.e., 7.10 percent) ¹⁰ established in the less-than-fair-value (LTFV) investigation if there is no rate for the intermediate company(ies) involved in the transaction, consistent with Commerce's reseller policy.¹¹ We intend to issue instructions to CBP 15 days after the date of publication of the final results of this review.

¹⁰ See Order, 84 FR at 24098.

¹¹ For a full discussion of this practice, see Antidumping and Countervailing Duty Proceedings: Assessment of Antidumping Duties, 68 FR 23954 (May 6, 2003).

Cash Deposit Requirements

The following deposit requirements will be effective for all shipments of the subject merchandise entered, or withdrawn from warehouse, for consumption on or after the publication date of the final results of this administrative review, as provided by section 751(a)(2)(C) of the Act: (1) The cash deposit rate for each company listed above will be equal to the weighted-average dumping margin established for that company in the final results of this administrative review; (2) for merchandise exported by a producer or exporter not covered in this review but covered in a prior segment of the proceeding, the cash deposit rate will continue to be the company-specific rate published for the most recently completed segment of this proceeding in which the producer or exporter participated; (3) if the exporter is not a firm covered in this review, a prior review, or the original LTFV investigation, but the producer is, then the cash deposit rate will be the rate established for the most recently completed segment of the proceeding for the producer of the merchandise; and (4) the cash deposit rate for all other producers or exporters will continue to be 7.10 percent ad valorem, the all-others rate established in the LTFV investigation.¹²

¹² See Order, 84 FR at 24098.

These cash deposit requirements, when imposed, shall remain in effect until further notice.

Notification to Importers Regarding the Reimbursement of Duties

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification Regarding Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i)(1) of the Act and 19 CFR 351.221(b)(5).

Dated: December 16, 2019.
Jeffrey I. Kessler,
Assistant Secretary for Enforcement and Compliance.

Appendix

List of Topics Discussed in the Issues and Decision Memorandum

I. Summary

II. Background

III. Changes from the Preliminary Results

IV. Discussion of the Issues

Comment 1: Collapsing POSCO with Certain Affiliated Companies

Comment 2: Treatment of Collapsed Company Names

Comment 3: Double-Counting of Freight Revenue

Comment 4: CEP Offset

Comment 5: Sales to Affiliated Parties

Comment 6: Miscellaneous Income Offset to General and Administrative Expenses

Comment 7: Purchases from Affiliated Suppliers

Comment 8: Costs Related to Greenhouse Gases

Comment 9: Cost Averaging Adjustments

Comment 10: Revaluation of Defective Slabs

Comment 11: Hyundai's No Shipment Claims

V. Recommendation

[FR Doc. 2019-27807 Filed 12-23-19; 8:45 am]

BILLING CODE 3510-DS-P